DEPARTMENT OF TRANSPORTATION

Federal Transit Administration

Announcement of Selected Fiscal Year 2000 Projects for the Job Access and Reverse Commute Competitive Grant Program

AGENCY: Federal Transit Administration, DOT.

ACTION: Notice.

SUMMARY: The U.S. Department of Transportation's (DOT) Federal Transit Administration (FTA) solicited competitive grants under the Job Access and Reverse Commute grant program, authorized under Section 3037 of the Transportation Equity Act for the 21st Century (TEA-21). The solicitation was announced in the Federal Register of Friday, March 10, 2000, Vol. 65, No. 48, pp. 13210-13220. This notice announces the successful applicants for fiscal year (FY) 2000.

FOR FURTHER INFORMATION: Contact the appropriate FTA Regional Administrator for application-specific information and issues (Appendix A). For general program information, contact Doug Birnie, Office of Research Management, (202) 366-1666, email douglas.birnie@fta.dot.gov, or refer to the Job Access and Reverse Commute Competitive Grants Notice, 65 Fed. Reg. 13210 et seq., March 10, 2000. A TDD is available at 1-800-877-8339 (TDD/FIRS). The notice can also be accessed through FTA's web site, [www.fta.dot.gov/wtw].

SUPPLEMENTARY INFORMATION: The Job Access and Reverse Commute grant program is intended to establish an area-wide regional approach to job access challenges through the establishment of an Area-Wide Job Access and Reverse Commute Transportation Plan. Projects derived from this plan support the implementation of a variety of transportation services that may be needed to connect welfare recipients to jobs and related employment activities. All projects funded under the Job Access and Reverse Commute grant program must be derived from this area-wide plan. The Job Access and Reverse Commute Program has two major goals: to provide transportation services in urban, suburban and rural areas to assist welfare recipients and low income individuals in gaining access to employment opportunities; and to increase collaboration among transportation providers, human service agencies, employers, metropolitan planning organizations (MPOs), states, and affected communities and individuals.

The following table lists the successful competitive applicants for fiscal year 2000, by state:

Fiscal Year 2000 Projects
State | Locality | Applicant (sub-applicant) | FTA funds
Arkansas | Fort Smith | City of Fort Smith | $346,930
Arkansas | Little Rock | Central Arkansas Transit | 500,000
California | Marysville | Yuba-Sutter Transit Authority | 98,500
California | Merced | Merced County Transit | 76,525
California | Monterey | Monterey-Salinas Transit | 367,683
California | Oakland | AC Transit | 294,900
California | Sacramento | CALTRANS | 1,000,000
California | Sacramento | Sacramento Regional Transit District | 800,000
California | San Diego | San Diego Association of Governments | 200,000
California | San Francisco | San Francisco Airport Authority | 262,037
California | San Jose | OUTREACH | 500,000
California | San Luis Obispo | San Luis Obispo Council of Governments | 192,041
California | Stockton | San Joaquin Council of Governments (Coordinator) | 62,500
California | Stockton | San Joaquin Council of Governments (Ride Match) | 62,500
California | Stockton | San Joaquin Regiona Transit District | 75,000
Colorado | Denver | Regional Transportation District | 700,000
Colorado | Loveland | City of Loveland | 102,223
Colorado | Pagosa Springs | Archuleta County Social Services | 132,072
Connecticut | Bridgeport | Connecticut Department of Transportation (Southwest Region) | 200,000
Connecticut | Waterbury, Danbury, Torrington | Connecticut Department of Transportation (Northwest Region) | 363,604
Delaware | Kent County (Dover) | Delaware Department of Transportation | 172,500
Florida | Fort Lauderdale | Broward County Division of Mass Transit | 500,000
Illinois | Bloomington | YMCA—McLean County | 37,500
Illinois | St. Louis/ East St. Louis | St. Clair County (East St. Louis Community College Center, Metropolitan Education & Training Center, Airport Employment & Education Center, Bi-State Development Agency) | 87,000
Indiana | Muncie | Muncie Public Transportation Corporation | 100,182
Louisiana | Baton Rouge | Capital Transportation Corporation | 500,000
Louisiana | Jefferson Parish | City of Jefferson Parish | 250,000
Maine | Portland | Maine Department of Transportation (Greater Portland Council of Governments) | 200,000
Massachusetts | Boston | Executive Office of Transportation and Construction | 140,085
Massachusetts | Boston | Massachusetts Bay Transportation Authority | 455,000
Massachusetts | Brockton | Executive Office of Transportation and Construction (Brockton Area Transit Authority) | 184,091
Massachusetts | Cape Cod | Executive Office of Transportation and Construction (Cape Cod Transit Authority) | 166,195
Massachusetts | Fall River, New Bedford, Dartmouth | Executive Office of Transportation and Construction (Southeastern Regional Transit Authority) | 184,091
Massachusetts | Gloucester & Cape Ann | Executive Office of Transportation and Construction (Cape Ann Transit Authority) | 213,974
Massachusetts | Lowell | Executive Office of Transportation and Construction (Lowell Regional Transit Authority) | 184,091
Massachusetts | Pittsfield, North Adams, Lee | Executive Office of Transportation and Construction (Berkshire Regional Transit Authority) | 144,235
Massachusetts | Plymouth, Taunton, Wareham | Executive Office of Transportation and Construction (Greater Attleboro-Taunton Transit Authority) | 184,091
Massachusetts | Springfield | Pioneer Valley Regional Transit Authority (Hampden County Employment & Training Consortium) | 500,000
Massachusetts | Worcester | Worcester Regional Transit Authority | 366,625
Michigan | Alger County | Michigan Department of Transportation (Alger County) | 32,335
Michigan | Allegan County | Michigan Department of Transportation (Allegan County) | 150,000
Michigan | Detroit | Southeastern Michigan Council of Governments (City of Detroit Department of Transportation) | 1,165,727
Minnesota | St. Cloud | St. Cloud Metro | 62,050
Missouri | Madison, St. Genevieve, St. Francois, Perry Iron, Bollinger, Cape Giradeau, Washington Counties | Missouri Department of Transportation (Southeast Missouri Private Industry Council) | 200,000
Missouri | Springfield | City Utilities of Springfield | 152,500
Missouri | St. Louis | Missouri Department of Economic Development (Bi-State Development Agency) | 55,000
Missouri | St. Louis | St. Charles County (City of St. Louis Agency on Training & Employment, St. Louis County Department of Human Services, Jefferson & Franklin County Office of Job Training Programs) | 397,542
New Hampshire | Nashua | City of Nashua (Town of Milford) | 184,000
New Hampshire | Portsmouth-Dover-Rochester | Cooperative Alliance for Seacoast Transportation | 135,000
New Mexico | Las Cruces | City of Las Cruces | 260,000
New Mexico | Santa Fe | City of Santa Fe | 315,000
New Mexico | Santa Fe | New Mexico State Highway and Transportation Department | 601,190
New York | Binghamton | Broome County | 200,000
New York | Ithaca/Tompkins County | Ithaca/Tompkins County | 200,000
New York | Utica/Rome | Herkimer-Oneida Counties | 200,000
North Carolina | Raleigh (Wilmington) | North Carolina Department of Transportation (New Hanover County) | 142,000
North Carolina | Raleigh (Winston-Salem) | North Carolina Department of Transportation (Winston-Salem Transit Authority) | 311,580
Ohio | Akron | Metro Regional Transit Authority | 476,622
Ohio | Cincinnati | Ohio-Kentucky-Indiana Regional Council of Governments | 484,570
Ohio | Cleveland | Greater Cleveland Regional Transit Authority | 500,000
Ohio | Columbus | Central Ohio Transit Authority | 500,000
Ohio | Dayton | Miami Valley Regional Transit Authority | 285,000
Ohio | Lorain | Lorain County Transit | 63,500
Ohio | Toledo | Toledo Metropolitan Area Council of Governments | 500,000
Ohio | Youngstown | Western Reserve Transit Authority | 700,000
Oregon | Medford | Oregon Department of Transportation (Rogue Valley Transportation District) | 151,767
Oregon | Portland | Tri-County Metropolitan Transportation District of Oregon | 850,000
Oregon | Salem | Oregon Department of Transportation (Salem Area Mass Transit District) | 99,062
Pennsylvania | Erie | Greater Erie Community Action Committee | 200,000
Pennsylvania | Indiana | Indiana County Transit Authority | 51,580
Pennsylvania | Lancaster | Red Rose Transit Authority | 121,000
Pennsylvania | Philadelphia Metro Area | Southeastern Pennsylvania Transportation Authority | 450,683
Rhode Island | Providence | Rhode Island Public Transit Authority | 500,000
Tennessee | Chattanooga | Chattanooga Area Regional Transportation Authority | 500,000
Tennessee | Nashville | Regional Transportation Authority | 410,883
Tennessee | Nashville (Statewide-Rural) | Tennessee Department of Transportation | 174,608
Texas | Abilene | City of Abilene | 125,000
Texas | Brownsville | City of Brownsville—Brownsville Urban Transit | 200,000
Texas | Galveston | Gulf Coast Center and Island Transit | 728,662
Texas | Lubbock | City Transit Management Company | 200,000
Texas | San Antonio | Alamo Area Council of Governments | 150,000
Virginia | Charlottesville | Virginia Department of Rail and Public Transportation (JAUNT, Inc.) | 367,100
Virginia | Roanoke | Virginia Department of Rail and Public Transportation (Unified Human Services Transportation Services, Inc.) | 200,000
Washington | Bellingham | Washington State Department of Transportation (Northwest Regional Council—RIDES) | 249,917
Washington | Centralia | Washington State Department of Transportation (Lewis Public Transportation Benefit Area) | 70,000
Washington | Olympia | Washington State Department of Transportation (Intercity Transit) | 89,750
Washington | Olympia | Washington State Department of Transportation (Intercity Transit, Olympia “Local Travel Agency”) | 42,300
Washington | Olympia | Washington State Department of Transportation (Thurston Regional Planning Council) | 120,500
Washington | Richland | Washington State Department of Transportation (Ben Franklin Transit) | 159,000
Washington | Seattle | Puget Sound Regional Council | 200,000
Washington | Yakima | Washington State Department of Transportation (People for People, Yakima-Kittitas) | 98,177

Pre-Award Authority: has provided pre-award spending authority for this program which permits successful applicants to incur costs on eligible projects without prejudice to possible Federal participation in the cost of the project or projects. However, prior to exercising pre-award authority, successful applicants must comply with all Federal requirements. Failure to do so will render a project ineligible for FTA financial assistance. Successful applicants are strongly encouraged to consult the appropriate regional office regarding the eligibility of the project for future FTA funds or the applicability of the conditions and Federal requirements. Pre-award spending authority was provided to continue projects previously funded in FY 1999, effective May 7, 2000. All other new projects selected and announced by this notice are likewise granted pre-award spending authority upon issuance of this notice.

Certifications and Assurances Requirements: In accordance with 49 U.S.C. 5323(n), certifications and assurances have been compiled for the various FTA programs. Before FTA may award a Federal grant, each successful applicant must provide to FTA all certifications and assurances required by Federal laws and regulations applicable to itself and its project. A state providing certifications and assurances on behalf of its prospective subrecipients should obtain sufficient documentation from those subrecipients needed to provide informed certifications and assurances. A successful applicant for funds under the Job Access and Reverse Commute Grant Program will be required to comply with the requirements of the FTA's Annual Certifications and Assurances. It is important that each successful applicant be familiar with all certifications and assurances as they are a prerequisite for receiving FTA financial assistance. All successful applicants are advised to read the entire text of those Certifications and Assurances to be confident of their responsibilities and commitments.

The signature page accompanying the Certifications and Assurances contains the current fiscal year's certifications and, when properly attested to and submitted to FTA, assures FTA that the applicant intends to comply with the requirements for the specific program involved. FTA will not award any Federal assistance until the successful applicant provides assurance of compliance by selecting Category I on the signature page and all other categories applicable to itself and its project.

FTA's fiscal year 2001 Certifications and Assurances will be published in the Federal Register. They will also be available on the the World Wide Web at [ ]. Copies may also be obtained from FTA regional offices. Applicants that need further assistance should contact the appropriate FTA regional office (see Appendix A) for further information.

U.S. Department of Labor Certification: As a condition of release of Federal funds for this program, Federal Transit law requires that applicants must comply with 49 U.S.C. section 5333(b), administered under the Department of Labor's (DOL) Mass Transit Employee Protection Program. These employee protections include the preservation of rights, privileges, and benefits under existing collective bargaining agreements, the continuation of collective bargaining rights, the protection of individual employees against a worsening of their positions related to employment, assurances of employment to employees of acquired mass transportation systems, priority of reemployment, and paid training or retraining. Generally, DOL processes the employee protection certification required under Section 5333(b) in accordance with the procedural guidelines published at 29 C.F.R. 215.3. However, for the Job Access and Reverse Commute Program, DOL has proposed to apply appropriate protections without referral for Job Access and Reverse Commute grant applications serving populations under 200,000 and to utilize the guidelines for Job Access and Reverse Commute grant applications serving populations of 200,000 or more. FTA will submit the grant application to DOL for certification.

Grant funds will NOT be released without DOL certification. Where there are questions regarding the DOL certification process and/or information needed by DOL to obtain a labor certification, successful applicants must contact the appropriate FTA regional office (See Appendix A). Additionally, guidance is provided on the World Wide Web at [http://www.fta.dot.gov.wtw/labor.htm].

Completed Application: All successful applicants must now proceed to complete their grant application by fully documenting all the Job Access and Reverse Commute program requirements that were not fully documented when the application was submitted. FTA regional offices will advise applicants by letter of any remaining outstanding items, as well as stipulations specific to the Job Access and Reverse Commute project which need to be addressed and/or fully documented prior to grant approval.

Successful applicants will be notified in writing by the FTA regional offices with further guidance.

Issued on: October 13, 2000.
Nuria I. Fernandez,
Acting Administrator.

Appendix A-FTA Regional Offices

Region I—

Maine, New Hampshire, Vermont, Connecticut, Rhode Island, and Massachusetts. Richard Doyle, FTA Regional Administrator, Volpe National Transportation Systems Center, Kendall Square, 55 Broadway, Suite 920, Cambridge, MA 02142-1093, (617) 494-2055

Region II—

New York, New Jersey, and Virgin Islands. Letitia Thompson, FTA Regional Administrator, One Bowling Green, Room 429, New York, NY 10004-1415, (212) 668-2170

Region III—

Pennsylvania, Delaware, Maryland, Virginia, West Virginia, and District of Columbia, Susan Schruth, FTA Regional Administrator, 1760 Market Street, Suite 500, Philadelphia, PA 19103-4124, (215) 656-7100

Region IV—

Kentucky, North Carolina, South Carolina, Georgia, Florida, Alabama, Mississippi, Tennessee, and Puerto Rico. Jerry Franklin, FTA Regional Administrator, 61 Forsyth Street, S.W., Suite 17T50, Atlanta, GA 30303, (404) 562-3500

Region V—

Minnesota, Wisconsin, Michigan, Illinois, Indiana, and Ohio. Joel Ettinger, FTA Regional Administrator, 200 West Adams Street, Suite 2410, Chicago, IL 60606-5232, (312) 353-2789

Region VI—

Arkansas, Louisiana, Oklahoma, Texas, and New Mexico, Robert Patrick, FTA Regional Administrator, 819 Taylor Street, Room 8A36, Ft. Worth, TX 76102, (817) 978-0550

Region VII—

Missouri, Iowa, Kansas, and Nebraska. Mokhtee Ahmad, FTA Regional Administrator, 901 Locust Street, Suite 404, Kansas City, MO 64106, (816) 329-3920

Region VIII—

Colorado, Utah, Wyoming, Montana, North Dakota, South Dakota. Lee Waddleton, FTA Regional Administrator, Columbine Place, 216 16th Street, Suite 650, Denver, CO 80202-5120, (303) 844-3242

Region IX—

California, Hawaii, Guam, Arizona, Nevada, American Samoa, and the Northern Mariana Islands. Leslie Rogers, FTA Regional Administrator, 201 Mission Street, Suite 2210, San Francisco, CA 94105-1839, (415) 744-3133

Region X—

Idaho, Oregon, Washington, and Alaska. Helen Knoll, FTA Regional Administrator, Jackson Federal Building, 915 Second Avenue, Suite 3142, Seattle, WA 98174-1002, (206) 220-7954

[FR Doc. 00-26818 Filed 10-18-00; 8:45 am]

BILLING CODE 4910-57-P